DEPARTMENT OF ENERGY

Federal Energy Regulatory Commission

[Docket Nos. EC03-47-001 and ES03-20-001]

Dynegy Inc.; Notice of Filing

February 5, 2003.

Take notice that on January 31, 2003, Dynegy Inc. (Dynegy), on behalf of certain of its public utility subsidiaries (Applicants), filed with the Federal Energy Regulatory Commission (Commission) an amendment to its January 13, 2003, application pursuant to section 203 of the Federal Power Act (FPA) for authorization of a disposition of jurisdictional facilities pursuant to an intra-corporate reorganization. In its January 13, 2003, application, Dynegy sought authorization to create one or more new intermediate holding companies between Dynegy Holdings Inc. and its indirect public utility subsidiaries. Dynegy also requested that the Commission grant Dynegy Power Marketing, Inc. blanket authority pursuant to FPA section 204 to issue securities and assume obligations or liabilities as guarantor, indorser, surety, or otherwise in respect of any security of another person. By the current amendment to the January 13, 2003, application, Dynegy seeks to alter its proposed corporate structure by transferring ownership in certain applicants to a newly-formed indirect, wholly-owned subsidiary of Dynegy.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: February 13, 2003.

Magalie R. Salas,
Secretary.

[FR Doc. 03-3358 Filed 2-10-03; 8:45 am]

BILLING CODE 6717-01-P